NUCLEAR REGULATORY COMMISSION

[Docket No. 50-346]

FirstEnergy Nuclear Operating Company; Notice of Consideration of Issuance of Amendment to Facility Operating License and Opportunity for a Hearing

The U.S. Nuclear Regulatory Commission (NRC, or the Commission) is considering issuance of an amendment to Facility Operating License No. NPF-3 issued to FirstEnergy Nuclear Operating Company (the licensee) for operation of the Davis-Besse Nuclear Power Station, Unit No. 1 (DBNPS), located in Ottawa County, Ohio.

The proposed amendment requested by the licensee's August 3, 2007, license amendment request (LAR) would represent a full conversion from the current technical specifications (CTS) to a set of improved technical specifications (ITS) based on NUREG-1430, “Standard Technical Specifications (STS) Babcock and Wilcox Plants,” Revision 3.1 dated December 2005 and certain generic changes to the NUREG. The attachment to the licensee's August 3, 2007, LAR consists of 17 volumes.

Volume 1 provides details concerning the application of the selection criteria to the individual DBNPS CTS. Each CTS Specification is evaluated, and a determination is made as to whether or not the CTS Specification meets the criteria in Title 10 of the Code of Federal Regulations (10 CFR) Section 50.36(d)(2)(ii) for retention in the proposed ITS. Volume 2 contains the licensee's evaluation of environmental considerations for the proposed ITS conversion LAR. Volumes 3-16 provide details and safety analyses to support the proposed changes. Volume 17 contains copies of the DBNPS CTS markup pages that have been annotated to show the differences between the CTS and the proposed ITS.

NUREG-1430 has been developed by the Commission's staff through working groups composed of both NRC staff members and industry representatives. It has been endorsed by the NRC staff as part of an industry-wide initiative to standardize and improve the technical specifications (TSs) for nuclear power plants.

In addition to the conversion, the licensee proposed or the NRC staff identified 24 beyond scope items (BSIs) where the requirements are different from the CTS and the STS of NUREG-1430. The BSIs are identified later in this notice.

This notice is based on the application dated August 3, 2007, and the information provided to the NRC through the DBNPS ITS Conversion Web page hosted by Excel Services Corporation. To expedite its review of the application, the NRC staff issued its requests for additional information (RAIs) through the DBNPS ITS Conversion Web page and the licensee addressed the RAIs by providing responses on the Web page. Entry into the database is protected so that only licensee and NRC reviewers can enter information into the database to add RAIs (NRC) or provide responses to the RAIs (licensee); however, the public can enter the database to read the questions asked and the responses provided. To be in compliance with the regulations for written communications for LARs and to have the database on the DBNPS docket before the amendment is issued, the licensee will submit a copy of the database in a submittal to the NRC after there are no further RAIs and before the amendment is issued. The public can access the Web site by going to http://www.excelservices.com. Once at the Web site, click on “Davis Besse” on the left side of the screen. Upon clicking the link, the Web site will inform you that “you are about to enter the DAVIS BESSE Improved Technical Specification Licensing On-Line Question and Answer Database.” At this point, click on “Click Here to continue.” This will bring you to the ITS Licensing Database. The RAIs and responses to RAIs are organized by ITS Sections 1.0, 2.0, 3.0, 3.1 through 3.9, 4.0, and 5.0. For every listed ITS section, there is a RAI which can be read by clicking on the ITS section number. The RAI question(s) and the licensee's response(s) are contained on the same Web page.

The licensee has categorized the proposed changes to the CTS into five general groupings within the discussion of changes (DOC) section of the application. These groupings are characterized as administrative changes (i.e., ITS x.x, DOC A.xx), more restrictive changes (i.e., ITS x.x, DOC M.xx), relocated specifications (i.e., ITS x.x, DOC R.xx), removed detail changes (i.e., ITS x.x, DOC LA.xx), and less restrictive changes (i.e., ITS x.x, DOC L.xx). This is to say that the DOCs are numbered sequentially with each letter designator for each ITS Chapter, Section, or Specification, and the designations are A.xx for administrative changes, M.xx for more restrictive changes, R.xx for relocated specifications, LA.xx for removed detail changes, and L.xx for less restrictive changes. These changes to the requirements of the CTS do not result in operations that will alter assumptions relative to mitigation of an analyzed accident or transient event.

Administrative changes are those that involve restructuring, renumbering, rewording interpretation and complex rearranging of requirements and other changes not affecting technical content or substantially revising an operating requirement. The reformatting, renumbering, and rewording process reflects the attributes of NUREG-1430 and does not involve technical changes to the CTS. The proposed changes include: (a) Providing the appropriate numbers, etc., for NUREG-1430 bracketed information (information that must be supplied on a plant-specific basis, and which may change from plant to plant), (b) identifying plant-specific wording for system names, etc., and (c) changing NUREG-1430 section wording to conform to existing licensee practices. Such changes are administrative in nature and do not impact initiators of analyzed events or assumed mitigation of accident or transient events.

More restrictive changes are those involving more stringent requirements compared to the CTS for operation of the facility. These more stringent requirements do not result in operation that will alter assumptions relative to the mitigation of an accident or transient event. The more restrictive requirements will not alter the operation of process variables, structures, systems, and components described in the safety analyses. For each requirement in the STS that is more restrictive than the CTS that the licensee proposes to adopt in the ITS, the licensee has provided an explanation as to why it has concluded that adopting the more restrictive requirement is desirable to ensure safe operation of the facility because of specific design features of the plant.

Relocated changes are those involving relocation of requirements and surveillances for structures, systems, components, or variables that do not meet the criteria for inclusion in TSs. Relocated changes are those CTS requirements that do not satisfy or fall within any of the four criteria specified in the 10 CFR 50.36(d)(2)(ii) and may be relocated to appropriate licensee-controlled documents.

The licensee's application of the screening criteria is described in the attachment to the licensee's August 3, 2007 letter, which is entitled, “Application of Selection Criteria to the Davis-Besse Nuclear Power Station Technical Specifications,” in Attachment 1 of the submittal. The affected structures, systems, components or variables are not assumed to be initiators of analyzed events and are not assumed to mitigate accident or transient events. The requirements and surveillances for these affected structures, systems, components, or variables will be relocated from the TSs to administratively-controlled documents such as the quality assurance program, the Updated Final Safety Analysis Report (UFSAR), the ITS Bases, the technical requirements manual (TRM) that is incorporated by reference in the UFSAR, the core operating limits report, the offsite dose calculation manual, the inservice testing program, the inservice inspection program, or other licensee-controlled documents. Changes made to these documents will be made pursuant to 10 CFR 50.59 or other appropriate control mechanisms, and may be made without prior NRC review and approval. In addition, the affected structures, systems, components, or variables are addressed in existing surveillance procedures that are also controlled pursuant to 10 CFR 50.59.

Removed detail changes are changes to the CTS that eliminate detail and relocate the detail to a licensee-controlled document. Typically, this involves details of system design and function, or procedural detail on methods of conducting a surveillance requirement (SR). These changes are supported, in aggregate, by a single generic no significant hazards consideration (NSHC).

Less restrictive changes are those where CTS requirements are relaxed or eliminated, or new plant operational flexibility is provided. The more significant “less restrictive” requirements are justified on a case-by-case basis. When requirements have been shown to provide little or no safety benefit, their removal from the TSs may be appropriate. In most cases, relaxations previously granted to individual plants on a plant-specific basis were the result of: (a) Generic NRC actions, (b) new NRC staff positions that have evolved from technological advancements and operating experience, or (c) resolution of the Owners Groups' comments on the improved STSs. Generic relaxations contained in NUREG-1430 were reviewed by the NRC staff and found to be acceptable because they are consistent with current licensing practices and NRC regulations. The licensee's design is being reviewed to determine if the specific design basis and licensing basis are consistent with the technical basis for the model requirements in NUREG-1430, thus providing a basis for the ITS, or if relaxation of the requirements in the CTS is warranted based on the justification provided by the licensee.

These administrative, relocated, more restrictive, removed detail and less restrictive changes to the requirements of the CTS do not result in operations that will alter assumptions relative to mitigation of an analyzed accident or transient event.

In addition to the proposed changes solely involving the conversion, there are also changes proposed that are different from the requirements in both the CTS and the STS NUREG-1430. To date 24 BSIs have been identified. These BSIs to the conversion are as follows (note that the words below that are capitalized are terms that are defined in the ITS):

1. BSI-1 proposes a change to the CTS by not requiring a CHANNEL CHECK of 2 relays (ITS 3.3.8, DOC L03). CTS 4.3-2 Functional Unit 4.b requires a CHANNEL CHECK of the Essential Bus Feeder Breaker Trip Degraded Voltage Relay (DVR) and Functional Unit 4.c requires a CHANNEL CHECK of the Diesel Generator Start and Load Shed on Essential Bus, Loss of Voltage Relay (LVR). ITS 3.3.8 does not require a CHANNEL CHECK.

2. BSI-2 proposes a change to the CTS by changing the Allowable Values for three Functional Units (ITS 3.3.11, DOC M02). CTS Table 3.3-12 Functional Unit 1, Steam Line Pressure-Low, specifies an Allowable Value of ≥ 591.6 psig for the CHANNEL FUNCTIONAL TEST and ≥ 586.6 psig for CHANNEL CALIBRATION. CTS Table 3.3-12 Functional Unit 2, Steam Generator Level-Low, specifies an Allowable Value of ≥ 16.9 inches for the CHANNEL FUNCTIONAL TEST. CTS Table 3.3-12 Functional Unit 3, Steam Generator Feedwater Differential Pressure-High, specifies an Allowable Value of ≤ 197.6 psig for the CHANNEL FUNCTIONAL TEST and ≤ 199.6 psig for CHANNEL CALIBRATION. ITS Table 3.3.11-1 Functions 1, 3, and 2 specify Allowable Values of ≥ 600.2 psig, ≥ 17.3 inches, and ≤ 176.8 psig, respectively.

3. BSI-3 proposes a change to the CTS by increasing the departure from nucleate boiling reactor coolant pressure parameter limits (ITS 3.4.1, DOC M01). CTS Table 3.2.-2 requires measured reactor coolant system pressure to be ≥ 2062.7 psig for four reactor coolant pump operation and ≥ 2058.7 psig for three reactor coolant pump operation. ITS LCO 3.4.1 requires Reactor Coolant System (RCS) loop pressure to be ≥ 2064.8 psig for four reactor coolant pump operation and ≥ 2060.8 psig for three reactor coolant pump operation.

4. BSI-4 proposes a change to the CTS by extending the Completion Time to reduce the trip setpoints from “4 hours” to “10 hours” (ITS 3.4.4., DOC L01). CTS 3.4.1.1 Action a, requires a reduction of the High Flux trip setpoint from the four reactor coolant pumps (RCPs) operating to three RCPs operating trip setpoint within 4 hours when shifting from four RCPs operating to three RCPs operating. ITS 3.4.4 Action A requires the reduction in the trip setpoints within 10 hours.

5. BSI-5 proposes a change to the CTS by allowing a wider range for the core flooding tank (CFT) borated water volume and nitrogen cover pressure (ITS 3.5.1, DOC L01). CTS LCO 3.5.1.b requires each CFT contained water volume be between 7555 gallons and 8004 gallons of borated water. CTS LCO 3.5.1.d requires each CFT nitrogen cover pressure be between 575 psig and 625 psig. In the ITS, SR 3.5.1.2 requires the borated water volume to be between 7480 gallons and 8078 gallons and ITS SR 3.5.1.3 requires the nitrogen cover pressure be between 567 psig and 633 psig.

6. BSI-6 proposes a change to the CTS by delaying performance of a RCS flow Surveillance until adequate conditions exist to perform the Surveillance (ITS 3.4.1, DOC L02). CTS 4.2.5.2 requires RCS total flow rate be determined to be within limits once per 18 months. ITS SR 3.4.1.4 requires the same Surveillance but includes a Note to allow the performance to be delayed for up to 7 days after stable thermal conditions are established at ≥ 70 percent RTP.

7. BSI-7 proposes a change to the CTS by requiring the emergency diesel generators (EDGs) to be tested for a longer duration, at higher loading, and within a power factor limit, with an allowance to not meet the load or power factor requirements due to momentary transients (ITS 3.8.1, DOC M06). CST 4.8.1.1.2.d.3 requires verification that the diesel generator operates for ≥ 60 minutes while loaded to ≥ 2000 kW. ITS SR 3.8.1.13 requires an endurance and load test for each EDG. The endurance and load test requires that the EDGs be operated for ≥ 8 hours, with ≥ 2 hours loaded between 2730 kW and 2860 kW and the remaining 6 hours loaded between 2340 kW and 2600 kW. This Surveillance is modified by Note 1 and Note 3. Note 1 states, “momentary transients outside the load and power factor ranges do not invalidate this test.” Note 3 states, “If part b is performed with EDG synchronized with offsite power, it shall be performed within the power factor limit. However, if grid conditions do not permit, the power factor limit is not required to be met. Under this condition the power factor shall be maintained as close to the limit as practicable.”

8. BSI-8 proposes a change to incorporate Technical Specification Task Force (TSTF) Traveler 451T, “Correct the Battery Monitoring and Maintenance Program and the Bases of SR 3.8.4.2” (ITS 5.5.16, DOC A.6).

9. BSI-9 proposes a change to the CTS by extending the Completion Time of the High Flux and Flux-ΔFlux-Flow trip setpoints from 4 hours to 10 hours (ITS 3.2.5, DOC L02). CTS 3.2.2 Action a states the High Flux and Flux-ΔFlux-Flow trip setpoints must be reduced 1 percent for each 1 percent Nuclear Heat Flux Hot Channel Factor exceeds its limit within 4 hours. CTS 3.2.3 Action A states the High Flux and Flux-ΔFlux-Flow trip setpoints must be reduced to 1 percent for each 1 percent Nuclear Enthalpy Rise Hot Channel Factor exceeds its limit within 4 hours. ITS 3.2.5 Required Actions A.2 and B.2 requires the trip setpoints to be reduced similarly within 10 hours.

10. BSI-10 proposes a change to the CTS by allowing the suspension of the RCS minimum temperature for criticality limit during performance of a MODE 2 PHYSICS TEST (ITS 3.1.0, DOC L03). However, it places a limitation on the RCS lowest loop average temperature that is allowed during the test. CTS 3.10.2 states that limitations of certain Specifications may be suspended during the performance of PHYSICS TESTS. ITS 3.1.9 provides an additional exception to LCO 3.4.2, “RCS Minimum Temperature for Criticality,” provided the RCS lowest loop average temperature is ≥ 520°F (ITS LCO 3.1.9 part e). A Surveillance to verify RCS lowest loop average temperature is ≥ 520°F every 30 minutes (ITS SR 3.1.9.2) has been added. In addition, ITS 3.1.9 ACTION C has been added to cover the situation when RCS lowest loop average temperature is not within limit. The Required Action is to suspend PHYSICS TESTS exceptions within 30 minutes.

11. BSI-11 proposes a change to the CTS requirement by specifying a power factor limit if EDG testing is conducted by synchronizing with the offsite sources, and a change to the CTS by requiring the EDG to maintain a frequency ≤ 66.75 Hz following the load reject instead of not tripping the EDG (ITS 3.8.1, DOC M05 and DOC M08). CTS 4.8.1.1.2.d.1 requires verifying that the EDG is capable of rejecting a load equal to the largest single emergency load supplied by the generator without tripping. This surveillance does not specify that an EDG shall be tested at a specific power factor. ITS SR 3.8.1.10 requires the verification that each EDG can reject a load equal to or greater than its associated single largest post-accident load. The SR additionally states in Note 2 “If performed with the EDG synchronized with offsite power, it shall be performed within the power factor limit. However, if grid conditions do not permit, the power factor limit is not required to be met. Under this condition the power factor shall be maintained as close to the limit as practicable.” CTS 4.8.1.1.2.d.1 requires verification that each EDG can reject a load equivalent to the largest single emergency load without tripping the EDG. ITS SR 3.8.1.10 also requires verification that each EDG can reject a load equivalent to the largest single emergency load, except the acceptance criterion is that the EDG frequency is maintained ≤ 66.75 Hz following the load reject, which is below the EDG overspeed trip setpoint.

12. BSI-12 proposes a change to the CTS by extending the time to restore rod groups from 2 hours to 4 hours (ITS 3.2.1, DOC L01). CTS 3.1.3.6 Actions require entry with any group sequence or overlap outside the limits. CTS 3.1.3.6 Action A requires restoration of the regulating groups to within the limits within 2 hours. ITS 3.2.1 ACTION C requires the restoration of regulating rod group to within the limits within 4 hours.

13. BSI-13 proposes the following changes related to draft TSTF-493:

a. Adds Footnotes (c) and (d) to ITS Table 3.3.1-1 Functional Unit 1a (ITS 3.3.1, Attachment 1 Volume 8, page 43 of 636 of application).

b. Allows Method 1 or Method 2 of ISA 67.04-Part II—1994 or ISA 67.04.02—2000 for all RPS Functional Units in the ITS Bases (ITS 3.3.1 Attachment 1 Volume 8, page 59 of 636 of application).

c. Allows modification to where the Nominal trip setpoints are specified in the TS Bases (ITS 3.3.1 Attachment 1 Volume 8, pages 60 and 62 of 636 of application).

d. Adds a statement to the TS Bases in the ITS for SR 3.3.1.5 and SR 3.3.1.7 for the High Flux—Low Setpoint, concerning instrument uncertainties and other uncertainties (ITS 3.3.1 Attachment 1 Volume 8, page 65 of 636 of application).

e. Adds a statement concerning setpoint methodology to the Bases in the ITS (ITS 3.3.1 Attachment 1 Volume 8, pages 81—84 of 636 of application).

f. Allows Method 1 or Method 2 of ISA 67.04-Part II—1994 or ISA 67.04.02—2000 for all Safety Features Actuation System (SFAS) Functional Units in the ITS Bases (ITS 3.3.5 Attachment 1 Volume 8, page 209 of 636 of application).

g. Allows Method 1 or Method 2 of ISA 67.04-Part II—1994 or ISA 67.04.02—2000 for all Steam/Feedwater Rupture Control System (SFRCS) Functional Units in the ITS Bases (ITS 3.3.11 Attachment 1 Volume 8, pages 394-395 of 636 of application).

14. BSI-14 proposes to retain the heat balance evaluation criteria in a licensee controlled document instead of the technical specifications (ITS 3.3.1 Attachment 1 Volume 8, page 36 of 636 of application).

15. BSI-15 proposes to relocate the Anticipatory Reactor Trip System Instrumentation LCO and Surveillances out of the Technical Specifications (ITS 3.3.1 DOC R01).

16. BSI-16 is not used.

17. BSI-17 proposes to reference the RPS cabinet vice the preamplifier in the TS Bases discussion of the source range CHANNEL CALIBRATION (ITS 3.3.9 Attachment 1 Volume 8, page 330 of 636 of application).

18. BSI-18 proposes to remove the source range and immediate range nuclear instrument overlap check (ITS 3.3.9 DOC LA03).

19. BSI-19 proposes the following changes concerning the Containment Purge and Exhaust Isolation TSs:

a. Adds the term “recently” to modify the APPLICABILITY of LCO 3.3.15 (ITS 3.3.15 DOC L01).

b. Adds the term “when the Containment Purge and Exhaust System is in service” to the APPLICABILITY of ITS LCO 3.3.15 (ITS 3.3.15 Attachment 1 Volume 8, page 500 of 636 of application).

c. Removes the STS calibration data in ITS LCO 3.3.15 (ITS 3.3.15 DOC M02).

d. Revises the TS Bases discussion in the STS concerning LCO 3.3.15 (ITS 3.3.15 Attachment 1 Volume 8, page 504 of 636 of application).

e. Revises the TS Bases discussion with respect to the CTS and STS concerning LCO 3.9.4 (ITS 3.3.15 Attachment 1 Volume 8, page 507 of 636 of application).

f. Revises the surveillance requirements associated with the containment purge and exhaust system radiation monitors (ITS 3.3.15 DOC M02).

20. BSI-20 proposes to revise the CHANNEL adjustment discussion in the ITS Bases concerning the calibration SRs for the Fuel Pool Area Emergency Ventilation System Actuation Area Monitor (ITS 3.3.14 Attachment 1 Volume 8, page 488 of 636 of application), and proposes to omit an allowable value for the channel calibration for SR 3.3.16.3 concerning the Station Vent Normal Range Monitoring (ITS 3.3.16 DOC M02).

21. BSI-21 proposes to deviate from the STS by not placing the Control Room Emergency Ventilation System in operation during the movement of irradiated fuel for an inoperable channel, and not immediately suspending irradiated fuel movements if two channels are inoperable and compensatory actions are not immediately carried out (ITS 3.3.16 DOC M03 and ITS 3.7.10 DOC M012).

22. BSI-22 proposes a new definition of Loss of Power Start (LOPS) operability in the TS Bases (ITS 3.3.8 Attachment 1 Volume 8, page 298 of 636 of application).

23. BSI-23 proposes to only have monitoring instrumentation to support maintaining the unit in a safe shutdown condition from locations other than the control room (ITS 3.3.18 Attachment 1 Volume 8, pages 605-611 of 636 of application), and proposes to delete the APPLICABILITY requirement and the CTS SR for control circuits and transfer switches required for a serious control room or cable spreading room fire (ITS 3.3.18 Attachment 1 Volume 8, page 601 of 636 of application).

24. BSI-24 proposes to make the LCO for the Fuel Handling Exhaust—High Radiation Monitors applicable only during movement of irradiated fuel assemblies in the spent fuel pool (ITS 3.3.14 Attachment 1 Volume 8, page 482 of 636 of application).

Before issuance of the proposed license amendment, the Commission will have made findings required by the Atomic Energy Act of 1954, as amended (the Act), and the Commission's regulations.

Within 60 days after the date of publication of this notice, the person(s) may file a request for hearing with respect to issuance of the amendment to the subject facility operating license and any person(s) whose interest may be affected by this proceeding and who wishes to participate as a party in the proceeding must file written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner/requestor in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestors/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner/requestor must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A petitioner/requestor who fails to satisfy these requirements with respect to at least one contention will not be permitted to participate as a party.

Those permitted to intervene become parties to the proceeding, subject to any limitations in the order granting leave to intervene, and have the opportunity to participate fully in the conduct of the hearing.

A request for hearing or a petition for leave to intervene must be filed in accordance with the NRC E-Filing rule, which the NRC promulgated on August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737. Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, Participants are requested not to include copyrighted materials in their submissions.

For further details with respect to this license amendment application, see the application for amendment dated August 3, 2007, which is available for public inspection at the Commission's PDR, located at One White Flint North, File Public Area O1 F21, 11555 Rockville Pike (first floor), Rockville, Maryland. Publicly available records will be accessible from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 16th day of May 2008.
For the Nuclear Regulatory Commission.
Thomas J. Wengert,
Project Manager, Plant Licensing Branch III-2, Division of Operating Reactor Licensing, Office of Nuclear Reactor Regulation.

[FR Doc. E8-11470 Filed 5-21-08; 8:45 am]

BILLING CODE 7590-01-P